DEPARTMENT OF DEFENSE

Department of the Army; Corps of Engineers

Adoption of Alternative Arrangements Under the National Environmental Policy Act for New Orleans Hurricane and Storm Damage Reduction System

AGENCY: Department of the Army, U.S. Army Corps of Engineers, DoD.

ACTION: Notice; correction.

SUMMARY: The notice published in the Federal Register on March 13, 2007 (72 FR 11337) contained an incorrect address for the New Orleans East Sub-Basin scoping meeting being held on April 11, 2007. The scoping meeting will be held at the Avalon Hotel & Conference Center, 10100 I-10 Service Road, New Orleans, LA 70121.

FOR FURTHER INFORMATION CONTACT: Mr.Gib Owen, (504) 862-1337.

SUPPLEMENTARY INFORMATION: None.

Brenda S. Bowen,
Army Federal Register Liaison Officer.

[FR Doc. 07-1572 Filed 3-29-07; 8:45 am]

BILLING CODE 3710-84-M